DEPARTMENT OF COMMERCE

National Oceanic and Atmospheric Administration

National Sea Grant Review Panel

AGENCY: National Oceanic and Atmospheric Administration, Commerce.

ACTION: Notice of public meeting.

SUMMARY: This notice sets forth the schedule and proposed agenda of a forthcoming meeting of the Sea Grant Review Panel. The meeting will have several purposes. Panel members will discuss and provide advice to the National Sea Grant College Program in fisheries extension enhancement, the November Panel Meeting in Baton Rouge and Sea Grant re-authorization.

DATES: The announced meeting is scheduled for Tuesday, July 15, 2008.

ADDRESSES: Conference Call. Public access is available at SSMC Bldg 3, Room #5836, 1315 East-West Highway, Silver Spring, MD.

FOR FURTHER INFORMATION CONTACT: Ms. Gina Barrera, National Sea Grant College Program, National Oceanic and Atmospheric Administration, 1315 East-West Highway, Room 11875, Silver Spring, Maryland 20910, (301) 734-1077.

SUPPLEMENTARY INFORMATION: The Panel, which consists of a balanced representation from academia, industry, state government and citizens groups, was established in 1976 by Section 209 of the Sea Grant Improvement Act (Pub. L. 94-461, 33 U.S.C. 1128). The Panel advises the Secretary of Commerce and the Director of the National Sea Grant College Program with respect to operations under the Act, and such other matters as the Secretary refers to them for review and advice. The agenda for the meeting is as follows:

Tuesday, July 15, 2008—11 a.m. to 1 p.m., EST

Agenda

I. Fisheries Extension Enhancement Committee Report.

II. Update on the November Panel meeting in Baton Rouge.

III. Update on Sea Grant Re-authorization.

This meeting will be open to the public.

Dated: June 12, 2008.
Terry Bevels,
Deputy Chief Financial Officer, Office of Oceanic and Atmospheric Research.

[FR Doc. E8-13745 Filed 6-17-08; 8:45 am]

BILLING CODE 3510-KA-P